ENVIRONMENTAL PROTECTION AGENCY

[FRL-6895-6]

Agency Information Collection Activities: Submission for OMB Review; Comment Request; National Emission Standards for Hazardous Air Pollutants (NESHAP) for Commercial Ethylene Oxide Sterilization and Fumigation Operations

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting and Recordkeeping Requirements for the National Emission Standards for Hazardous Air Pollutants (NESHAP) for Commercial Ethylene Oxide Sterilization and Fumigation Operations, OMB Control Number 2060-0283, expiration date December 31, 2000. The ICR describes the nature of the information collection and its expected burden and cost; where appropriate, it includes the actual data collection instrument.

DATES: Comments must be submitted on or before December 4, 2000.

ADDRESSES: Send comments, referencing EPA ICR 1666.05 and OMB Control Number 2060-0283 to Sandy Farmer at EPA, U.S. Environmental Protection Agency, Collection Strategies Division (Mail Code 2822) 1200 Pennsylvania Avenue, N.W. Washington D.C. 20460; and to the Office of Information and Regulatory Affairs, Office of Management and Budget (OMB), Attention: Desk Officer for EPA, 725 17th Street, N.W. Washington D.C. 20503.

FOR FURTHER INFORMATION CONTACT: For a copy of the ICR contact Sandy Farmer at EPA by phone at (202) 260-2740, by E-mail at farmer.sandy@epa.gov, or download off the Internet at http://www.epa.gov/icr and refer to EPA ICR No. 1666.05. For technical questions about the ICR contact Jonathan Binder at EPA by phone at (202) 564-2516, by E-mail at binder.jonathan@epa.gov.

SUPPLEMENTARY INFORMATION: Title: National Emission Standards for Hazardous Air Pollutants (NESHAP) for Commercial Ethylene Oxide Sterilization and Fumigation Operations (OMB Control No. 2060-0283; EPA ICR No. 1666.05) expiring 12/31/00. This is a revision of a currently approved collection.

Abstract: The Agency is required under section 112(d) of the Clean Air Act, as amended, to regulate emissions of hazardous air pollutants listed in section 112(b).

Certain records and reports are necessary to enable the Administrator to: (1) Identify new, modified, reconstructed, and existing sources subject to the standards and (2) ensure that the standards, which are based on maximum achievable control technology (MACT) and generally available control technology (GACT), are being achieved. These records and reports are required under the General Provisions of 40 CFR part 63, subpart A (as authorized under sections 101, 112, 114, 116, and 301 of the Clean air Act as amended by Public Law 101-549 (U.S.C. 7401,7412, 7414, 7416, 7601)).

These standards apply to new and existing commercial Ethylene Oxide (EO) sterilization and fumigation facilities that use air pollution control devices that are in operation after promulgation of the NESHAP. There are an estimated total of 100 commercial EO sterilization and fumigation operations affected by the NESHAP nationwide. The number of new operations is expected to be low because limited net growth is predicted for this industry.

Owners or operators of the affected facilities described must submit one-time reports of start of construction, anticipated or actual startup dates, and physical or operation changes to existing facilities. In addition, owners or operators of existing or new commercial EO sterilization and fumigation operations will submit one-time reports of actual or estimated annual EO use.

Reports of initial emissions testing are necessary to determine that the applicable emission limit is being met. The owner or operator of a commercial EO sterilization and fumigation operation that uses an air pollution control device to meet the emission limit is required to maintain records of the site-specific monitoring parameters as well as daily and monthly inspections of the control device.

The emissions test reports and other records must be kept at the facility for a minimum of five years and be made available to the Administrator upon request. All reports and records must comply with the General Provisions to 40 CFR part 63. Owners or operators of a source subject to these standards will provide a semi-annual report of excess emissions that includes the monitored operating parameter value readings required by the standards. The respondent's state or local agency can be delegated enforcement authority by EPA and also request these reports.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 18, 2000 (65 FR 20813); no comments were received.

Burden Statement: The annual public reporting and recordkeeping burden for this collection of information is estimated to average 75 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators of Commercial Ethylene Oxide Sterilization/Fumigation Operations.

Estimated Number of Respondents: 100.

Frequency of Response: Daily, Monthly, and Semi-annually.

Estimated Total Annual Hour Burden: 7,328 hours.

Estimated Total Annualized Capital, O&M Cost Burden: $228,000.

Send comments on the Agency's need for this information, the accuracy of the provided burden estimates, and any suggested methods for minimizing respondent burden, including through the use of automated collection techniques to the addresses listed above. Please refer to EPA ICR No. 1666.05 and OMB Control No. 2060-0283 in any correspondence.

Dated: October 20, 2000.
Oscar Morales,
Director, Collection Strategies Division.

[FR Doc. 00-28165 Filed 11-1-00; 8:45 am]

BILLING CODE 6560-50-U